DEPARTMENT OF TRANSPORTATION

Federal Railroad Administration

[Docket No. FRA-2009-0016]

Metrics and Standards for Intercity Passenger Rail Service Under Section 207 of Public Law 110-432

AGENCY: Federal Railroad Administration (FRA), Department of Transportation (DOT).

ACTION: Notice and request for comments.

SUMMARY: In compliance with section 207 of the Passenger Rail Investment and Improvement Act of 2008 (Division B of Pub. L. 110-432), the FRA and the National Railroad Passenger Corporation (Amtrak) have jointly drafted performance metrics and standards for intercity passenger rail service, and are requesting comments on that draft from the Surface Transportation Board, rail carriers over whose rail lines Amtrak trains operate, States, Amtrak employees, nonprofit employee organizations representing Amtrak employees, and groups representing Amtrak passengers. The draft document, entitled “Proposed Metrics and Standards for Intercity Passenger Rail Service,” is available on the FRA's Web site at http://www.fra.dot.gov/us/content/2165. Comments may be submitted to the corresponding docket (number FRA-2009-0016) at regulations.gov and will be considered before the finalized Section 207 metrics and standards are adopted.

DATES: The comment period will commence on Friday, March 13, 2009 and Comments must be received by Friday, March 27, 2009. Comments received after that date will be considered to the extent possible without incurring additional expenses or delays.

ADDRESSES: Comments for Docket No. FRA-2009-0016 should be filed at the Federal portal http://www.regulations.gov. Follow the Web site's online instructions for submitting comments.

FOR FURTHER INFORMATION CONTACT: Neil E. Moyer, Chief, Intercity Passenger Rail Analysis Division, U.S. Department of Transportation, Federal Railroad Administration (e-mail Neil.Moyer@dot.gov; telephone 202-493-6365); or Ed Courtemanch, Sr. Principal, Operations Service Planning, Amtrak (e-mail CourteE@amtrak.com; telephone 202-906-3249).

Issued in Washington, DC, on March 9, 2009.
Neil Moyer,
Chief, Intercity Passenger Rail Analysis Division.

[FR Doc. E9-5513 Filed 3-12-09; 8:45 am]

BILLING CODE 4910-06-P